DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on May 14, 2008, vol. 73, no. 94, page 27887. Pursuant to Public Law 104-50, the FAA has implemented an acquisition management system that addresses the unique needs of the agency. This document established the policies and internal procedures for the FAA's acquisition system.

DATES: Please submit comments by September 8, 2008.

FOR FURTHER INFORMATION CONTACT: Carla Mauney at Carla.Mauney@faa.gov.

SUPPLEMENTARY INFORMATION:

Federal Aviation Administration (FAA)

Title: FAA Acquisition Management System (FAAAMS).

Type of Request: Revision of a currently approved collection.

OMB Control Number: 2120-0595.

Forms(s) 93 Forms available online: http://fast.faa/gov/docs/forms/form.html.

Affected Public: An estimated 15,298 Respondents.

Frequency: This information is collected on occasion.

Estimated Average Burden per Response: Approximately 7.6 hours per response.

Estimated Annual Burden Hours: An estimated 2,002,569 hours annually.

Abstract: Pursuant to Public Law 104-50, the FAA has implemented an acquisition management system that addresses the unique needs of the agency. This document established the policies and internal procedures for the FAA's acquisition system.

ADDRESSES: Interested persons are invited to submit written comments on the proposed information collection to the Office of Information and Regulatory Affairs, Office of Management and Budget. Comments should be addressed to Nathan Lesser, Desk Officer, Department of Transportation/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on July 30, 2008.
Carla Mauney,
FAA Information Collection Clearance Officer, IT Enterprises Business Services Division, AES-200.

[FR Doc. E8-18099 Filed 8-7-08; 8:45 am]

BILLING CODE 4910-13-M